DEPARTMENT OF LABOR

Employment and Training Administration

[TA-W-41,987]

Alcoa Wenatchee Works, a Division of Alcoa, Inc., Malaga, WA; Notice of Termination of Investigation

Pursuant to Section 221 of the Trade Act of 1974, an investigation was initiated on August 19, 2002, on behalf of workers at Alcoa Wenatchee Works, A Division of Alcoa, Inc., Malaga, Washington, producing primary aluminum.

The subject plant ceased the production of aluminum in July 2001, more than one year prior to the August 1, 2002, date of the petition. Section 223(b)(1) of the Trade Act of 1974 provides that a TAA certification may not apply to a worker whose separation from employment occurred more than one year prior to the date the petition was filed on behalf of affected workers. The Trade Act does not give the Secretary authority to waive this statutory limitation. Consequently, further investigation in this case would serve no purpose, and the investigation has been terminated.

Signed in Washington, DC this 18th day of October, 2002.
Linda G. Poole,
Certifying Officer, Division of Trade Adjustment Assistance.

[FR Doc. 02-28032 Filed 11-4-02; 8:45 am]

BILLING CODE 4510-30-P